DEPARTMENT OF ENERGY

Federal Energy Regulatory Commission

[Docket No. RP94-367-012]

National Fuel Gas Supply Corporation; Notice of Compliance Filing

February 28, 2001.

Take notice that on February 22, 2001, National Fuel Gas Supply Corporation (National) tendered for filing to be part of its FERC Gas Tariff, Fourth Revised Volume No. 1, to comply with the Letter Order issued by the Federal Energy Regulatory Commission (Commission) on February 7, 2001. Pursuant to the Letter Order the revised rates are to be effective on April 1, 2001.

National states that the revised tariff sheets reflect updates to the pro forma sheets National filed on September 29, 2000, at Docket No. RP94-367-011 which establish its unbundled gathering rates.

National states that copies of this filing were served upon its current customers and interested state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See 18 CFR 385.2001(a)(1)(iii) and the instructions on the Commission's web site at http://www.ferc.fed.us/efi/doorbell.htm.

David P. Boergers,
Secretary.

[FR Doc. 01-5353 Filed 3-5-01; 8:45 am]

BILLING CODE 6717-01-M